DEPARTMENT OF ENERGY

Office of Energy Efficiency and Renewable Energy

Department of Energy's Fleet Alternative Fueled Vehicle Acquisition

AGENCY: Office of Energy Efficiency and Renewable Energy, U.S. Department of Energy

ACTION: Notice of Availability of the Department of Energy's Annual Report on its Alternative Fueled Vehicle Acquisitions for Fiscal Year 2002.

SUMMARY: In compliance with the Energy Policy Act of 1992 and Executive Order 13149, this notice announces the availability of the 2002 report which summarizes the U.S. Department of Energy's (DOE) compliance with the annual alternative fueled vehicle acquisition requirement for its vehicle fleet. Additionally, this report includes data concerning DOE's efforts to reduce petroleum consumption.

ADDRESSES: U.S. Department of Energy, Office of Energy Efficiency and Renewable Energy, Office of FreedomCAR and Vehicle Technologies, EE-2G, 1000 Independence Avenue, SW, Washington, DC 20585-0121.

FOR FURTHER INFORMATION CONTACT: Shabnam Fardanesh on (202) 586-7011 or shabnam.fardanesh@ee.doe.gov.

SUPPLEMENTARY INFORMATION: The Energy Policy Act of 1992 (42 U.S.C. 13211-13219) (EPAct) as amended by the Energy Conservation and Reauthorization Act of 1998 (Pub. L. 105-388) and Executive Order 13149 (April 2000) require Federal fleets to make 75 percent of their new covered vehicle acquisitions alternative fueled vehicles, beginning in fiscal year 1999. In fiscal year 2002, 83 percent of the covered vehicles DOE acquired were alternative fueled vehicles, exceeding the 75 percent requirement by eight percent. DOE also exceeded its alternative fueled vehicle acquisition requirements in fiscal years 1999, 2000 and 2001, and expects a similarly high level of compliance for fiscal years 2003 and 2004.

Pursuant to 42 U.S.C. 13218, DOE and other covered agencies are required annually to submit to Congress reports on their alternative fueled vehicle acquisitions. These reports must also be placed on a publicly available Web site and a notice of their availability, including the Web site address, must be published in the Federal Register.

The DOE report for fiscal year 2002 may be accessed on the Vehicle Technology's Federal Fleet Web site at http://www.ott.doe.gov/epact/fed_fleet_prog.shtml.

Issued in Washington, DC, on August 6, 2003.
David K. Garman,
Assistant Secretary, Energy Efficiency and Renewable Energy.

[FR Doc. 03-20497 Filed 8-11-03; 8:45 am]

BILLING CODE 6450-01-P